NUCLEAR REGULATORY COMMISSION

[Docket Nos. 50-334 and 50-41, Nos. DPR-66 and NPF-73, NRC-2009-0496]

Notice of Issuance of Renewed Facility Operating License for an Additional 20-Year Period FirstEnergy Nuclear Operating Company Beaver Valley Power Station, Units 1 and 2

Notice is hereby given that the U.S. Nuclear Regulatory Commission (NRC or the Commission) has issued Renewed Facility Operating License Nos. DPR-66 and NPF-73, to FirstEnergy Nuclear Operating Company (the licensee), the operator of the Beaver Valley Power Station (BVPS), Units 1 and 2. Renewed Facility Operating License Nos. DPR-66 and NPF-73 authorize operation of BVPS, Units 1 and 2, by the licensee at reactor core power levels not in excess of 2900 megawatts thermal (972 megawatts electric) for each unit, in accordance with the provisions of the BVPS, Units 1 and 2, renewed licenses and their Technical Specifications.

This notice also serves as the record of decision for the renewal of Facility Operating License Nos. DPR-66 and NPF-73 for BVPS, consistent with Title 10 of the Code of Federal Regulations (10 CFR) Section 51.103. As discussed in the Final Supplemental Environmental Impact Statement (FSEIS) for BVPS, Units 1 and 2, dated May 2009, the Commission considered a range of reasonable alternatives that included generation from coal, natural gas, oil, wind, solar, hydropower, geothermal, wood waste, municipal solid waste, other biomass-derived fuels, delayed retirement, utility-sponsored conservation, a combination of alternatives, and a no-action alternative. The factors considered in the record of decision can be found in the supplemental environmental impact statement (SEIS) for license renewal, Supplement 36 regarding BVPS, Units 1 and 2.

BVPS, Units 1 and 2, are pressurized water reactors designed by Westinghouse Electric Corporation that are located along the Ohio River in Beaver County, PA. The site is located approximately 17 miles west of McCandless, PA. The application for the renewed licenses complied with the standards and requirements of the Atomic Energy Act of 1954, as amended (the Act), and the Commission's regulations. As required by the Act and the Commission's regulations in 10 CFR Chapter I, the Commission has made appropriate findings, which are set forth in the licenses.

Prior public notice of the action involving the proposed issuance of the renewed licenses and of an opportunity for a hearing regarding the proposed issuance of the renewed licenses was published in the Federal Register on September 24, 2007 (72 FR 54301). For further details with respect to this action, see (1) the FirstEnergy Nuclear Operating Company, license renewal application for BVPS, Units 1 and 2, dated August 27, 2007; (2) the Commission's safety evaluation report (NUREG-1929), published in October 2009; (3) the Commission's safety evaluation report (NUREG-1929, Supplement 1), published in October 2009, (4) the licensee's updated safety analysis report; and (5) the Commission's Final Environmental Impact Statement (NUREG-1437, Supplement 36), published in May 2009. These documents are available at the NRC Public Document Room, One White Flint North, 11555 Rockville Pike, Rockville, Maryland 20852, and can be viewed from the NRC Public Electronic Reading Room at http://www.nrc.gov/reading-rm/adams.html.

Copies of Renewed Facility Operating License Nos. DPR-66 and NPF-73 may be obtained by writing to the U.S. Nuclear Regulatory Commission, Washington, DC 20555-0001, Attention: Director, Division of License Renewal. Copies of the BVPS, Units 1 and 2, Safety Evaluation Report (NUREG-1929), Beaver Valley Power Station, Units 1 and 2, Safety Evaluation Report, Supplement 1 (NUREG-1929, Supplement 1), and the Final Environmental Impact Statement (NUREG-1437, Supplement 36) may be purchased from the National Technical Information Service, U.S. Department of Commerce, Springfield, VA 22161-0002 (http://www.ntis.gov), 703-605-6000, or the Superintendent of Documents, U.S. Government Printing Office, P.O. Box 371954, Pittsburgh, PA 15250-7954, (http://www.gpoaccess.gov), 202-512-1800. All orders should clearly identify the NRC publication number and the requester's Government Printing Office deposit account number or a VISA or MasterCard number and expiration date.

Dated at Rockville, Maryland, this 5th day of November 2009.
For the Nuclear Regulatory Commission.
David J. Wrona,
Chief, Projects Branch 2, Division of License Renewal, Office of Nuclear Reactor Regulation.

[FR Doc. E9-27277 Filed 11-12-09; 8:45 am]

BILLING CODE 7590-01-P